DEPARTMENT OF COMMERCE

Foreign-Trade Zones Board

[Order No. 1911]

Expansion of Foreign-Trade Zone 75 Under Alternative Site Framework; Phoenix, Arizona

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the City of Phoenix, grantee of Foreign-Trade Zone 75, submitted an application to the Board (FTZ Docket B-87-2012, docketed 12-07-2012) for authority to expand the zone under the ASF to include an additional magnet site, proposed Site 9, within the Phoenix, Arizona U.S. Customs and Border Protection port of entry;

Whereas, notice inviting public comment was given in the Federal Register (77 FR 74457-74458, 12-14-2012) and the application has been processed pursuant to the FTZ Act and the Board's regulations; and,

Whereas, the Board adopts the findings and recommendations of the examiner's report, and finds that the requirements of the FTZ Act and the Board's regulations are satisfied;

Now, therefore, the Board hereby orders:

The application to expand FTZ 75 under the ASF is approved, subject to the FTZ Act and the Board's regulations, including Section 400.13, to the Board's standard 2,000-acre activation limit for the zone, and to a five-year ASF sunset provision for magnet sites that would terminate authority for Site 9 if not activated by August 31, 2018.

Signed at Washington, DC, this 19th day of August 2013.
Paul Piquado,
Assistant Secretary of Commerce for Import Administration, Alternate Chairman, Foreign-Trade Zones Board.
Andrew McGilvray,
Executive Secretary.

[FR Doc. 2013-20766 Filed 8-23-13; 8:45 am]

BILLING CODE 3510-DS-P